ENVIRONMENTAL PROTECTION AGENCY

[FRL-9934-54-Region 2]

New York State Prohibition of Discharges of Vessel Sewage; Notice of Final Determination; Correction

AGENCY: Environmental Protection Agency (EPA).

ACTION: Notice of determination; correction.

SUMMARY: The Environmental Protection Agency (EPA) published a document in the Federal Register of September 9, 2015, regarding the petition by New York State to establish a No Discharge Zone for the New York State waters of Seneca Lake, Cayuga Lake and the Seneca River. The document contained an incomplete sentence.

FOR FURTHER INFORMATION CONTACT: Moses Chang, (212) 637-3867, email address: chang.moses@epa.gov.

Correction

In the Federal Register of September 9, 2015, FR Document 2015-22694 [FRL-9933-54-Region 2], on page 54281, in the second column, in line 9 from the bottom, the following sentence: “These comments are consistent with New York's determination of need.” is corrected to read: “Therefore, while these comments are consistent with New York's determination of need, that determination is beyond the scope of EPA's review.”

Dated: September 10, 2015.
Moses Chang,
R2 No Discharge Zone Coordinator, Aquatic Biologist, EPA R2, Clean Water Division.

[FR Doc. 2015-26484 Filed 10-16-15; 8:45 am]

BILLING CODE 6560-50-P